DEPARTMENT OF AGRICULTURE

Animal and Plant Health Inspection Service

[Docket No. APHIS-2016-0069]

Availability of a Final Environmental Assessment and Finding of No Significant Impact for a Biological Control Agent for Giant Reed

AGENCY: Animal and Plant Health Inspection Service, USDA.

ACTION: Notice of availability.

SUMMARY: We are advising the public that the Animal and Plant Health Inspection Service has prepared a final environmental assessment and finding of no significant impact relative to the release of Lasioptera donacis for the biological control of giant reed, Arundo donax, in the continental United States. Based on its finding of no significant impact, the Animal and Plant Health Inspection Service has determined that an environmental impact statement need not be prepared.

FOR FURTHER INFORMATION CONTACT: Dr. Colin D. Stewart, Assistant Director, Pests, Pathogens, and Biocontrol Permits, Permitting and Compliance Coordination, PPQ, APHIS, 4700 River Road Unit 133, Riverdale, MD 20737-1231; (301) 851-2327, email: Colin.D.Stewart@aphis.usda.gov.

SUPPLEMENTARY INFORMATION: Giant reed (Arundo donax), a native of the Mediterranean and Middle East, has become one of the most pervasive non-native plants to invade the riparian areas of the Southwest United States, especially in California and the Rio Grande area of Texas. Giant reed infestations in riparian habitats lead to loss of biodiversity, stream bank erosion, altered channel morphology, enhanced survival of cattle fever ticks, damage to bridges, increased costs for chemical and mechanical control along transportation corridors, and impede law enforcement activities on the international border. Many Federal and State agencies, as well as private entities, conduct programs to manage giant reed, as well as other -invasive weeds.

The Animal and Plant Health Inspection Service (APHIS) is proposing to issue permits for the field release of a gall-forming fly, Lasioptera donacis, into the continental United States to reduce the severity of giant reed infestations.

On November 8, 2016, we published in the Federal Register (81 FR 78567-78568, Docket No. APHIS-2016-0069) a notice¹ in which we announced the availability, for public review and comment, of an environmental assessment (EA) that examined the potential environmental impacts associated with the proposed release of this biological control agent into the continental United States.

¹ To view the notice, environmental assessment, finding of no significant impact, and the comments we received, go to https://www.regulations.gov/docket?D=APHIS-2016-0069.

We solicited comments on the EA for 30 days ending December 8, 2016. We received 14 comments by that date. A written response to all comments received on the EA can be found in appendix 5 of the final EA (see footnote 1).

In this document, we are advising the public of our finding of no significant impact (FONSI) regarding the release of L. donacis into the continental United States for use as a biological control agent to reduce the severity of giant reed infestations. The finding, which is based on the EA, reflects our determination that release of this biological control agent will not have a significant impact on the quality of the human environment.

The EA and FONSI may be viewed on the Regulations.gov Web site (see footnote 1). Copies of the EA and FONSI are also available for public inspection at USDA, room 1141, South Building, 14th Street and Independence Avenue SW., Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 11th day of January 2017.
Kevin Shea,
Administrator, Animal and Plant Health Inspection Service.

[FR Doc. 2017-01018 Filed 1-17-17; 8:45 am]

BILLING CODE 3410-34-P